DEPARTMENT OF HEALTH AND HUMAN SERVICES

National Institutes of Health

Draft National Institute of Arthritis and Musculoskeletal and Skin Diseases (NIAMS) Strategic Plan for FY 2020-2024

AGENCY: National Institutes of Health, HHS.

ACTION: Request for comments.

SUMMARY: The National Institute of Arthritis and Musculoskeletal and Skin Diseases (NIAMS) is updating its Strategic Plan for Fiscal Years (FY) 2020-2024 to help guide the research it supports over the next five years. The Institute issued a previous Request for Information (RFI) (NOT-AR-19-009) to solicit initial comments on how the previous plan for Fiscal Years 2015-2019 should be modified to reflect progress over the past five years. The Institute also gathered additional input through listening sessions with the community. Based on this feedback, along with input from the NIAMS Advisory Council and its Working Group for the Strategic Plan, the Institute has drafted the NIAMS Strategic Plan for FY 2020-2024. We are now seeking input on this draft.

Through this RFI, NIAMS invites feedback from researchers in academia and industry, health care professionals, patient advocates and health advocacy organizations, scientific or professional organizations, Federal agencies, and other interested members of the public on the draft NIAMS Strategic Plan for FY 2020-2024. Organizations are strongly encouraged to submit a single response that reflects the views of their organization and membership as a whole. The final draft of the Strategic Plan will be presented at the September 2019 meeting of the NIAMS Advisory Council and the final plan will be posted on the NIAMS website once it is approved.

DATES: Submit your comments through the Request for Information (RFI) electronically at https://grants.nih.gov/grants/guide/notice-files/NOT-AR-19-010.html on or before July 12, 2019, 11:59:59 p.m. EDT.

ADDRESSES: Comments are strongly encouraged to be submitted online at https://grants.nih.gov/grants/guide/notice-files/NOT-AR-19-010.html. They may also be submitted by email to niamslrpfeedback@mail.nih.gov, or by mail to: Scientific Planning, Policy, and Analysis Branch, NIAMS/NIH/HHS, Building 31, Room 4C13, 31 Center Drive, Bethesda, MD 20892.

FOR FURTHER INFORMATION CONTACT: Cindy Caughman, M.P.H., Chief, Scientific Planning, Policy, and Analysis Branch, National Institute of Arthritis and Musculoskeletal and Skin Diseases; email: niamslrpfeedback@mail.nih.gov, or call non-toll-free number 301-496-8271.

SUPPLEMENTARY INFORMATION:

Background

The mission of the NIAMS, a part of the U.S. Department of Health and Human Services' National Institutes of Health, is to support research into the causes, treatment and prevention of arthritis and musculoskeletal and skin diseases; the training of basic and clinical scientists to carry out this research; and the dissemination of information on research progress in these diseases. For more information about the NIAMS, call the information clearinghouse at (301) 495-4484 or (877) 22-NIAMS (free call) or visit the NIAMS website at https://www.niams.nih.gov.

Request for Comment on Draft NIAMS Strategic Plan FY 2020-2024

In September 2018, NIAMS solicited input on how the Long-Range Plan for FY 2015-2019 should be updated via a Request for Information (NOT-AR-19-009) and gathered additional input through listening sessions with the community. Respondents and listening session participants were asked to provide input on emerging research needs and opportunities that should be added to the Strategic Plan based on progress over the last five years, as well as cross-cutting scientific themes common to all, or most, of the disease and tissue-specific topics. The NIAMS Advisory Council and its Working Group for the Strategic Plan also provided their input to the planning process.

NIAMS seeks Comments from all interested parties on its draft “NIAMS Strategic Plan FY 2020-2024.” Input received in response to this request will be collected from June 21 to July 12, 2019.

All comments should be submitted on or before July 12, 2019.

Dated: May 29, 2019.
Robert H. Carter,
Acting Director, National Institute of Arthritis and Musculoskeletal and Skin Diseases, National Institutes of Health.

[FR Doc. 2019-13462 Filed 6-21-19; 8:45 am]

BILLING CODE 4140-01-P